DEPARTMENT OF TRANSPORTATION

Federal Aviation Administration

Proposed Advisory Circular 20-65A, U.S. Airworthiness Certificates and Authorizations for Operation of Domestic and Foreign Aircraft

AGENCY: Federal Aviation Administration (FAA), DOT.

ACTION: Notice.

SUMMARY: This notice announces the availability of proposed Advisory Circular (AC) 20-65A, U.S. Airworthiness Certificates and Authorizations for Operation of Domestic and Foreign Aircraft, for review and comment. The proposed AC is written in plain language in an effort to keep this guidance simple and easy to understand. This AC was also updated to the current requirements, references, and FAA offices.

DATES: Comments submitted must identify the proposed AC 20-65A and be received by May 11, 2004.

ADDRESSES: Copies of the proposed AC 20-65A can be obtained from and comments may be returned to the following: Federal Aviation Administration, Production and Airworthiness Division, AIR-200, Room 815, 800 Independence Avenue, SW., Washington, DC 20591.

FOR FURTHER INFORMATION CONTACT: Estella James, Airworthiness Certification Branch, AIR-220, Production and Airworthiness Division, Room 815, Aircraft Certification Service, Federal Aviation Administration, 800 Independence Avenue, SW., Washington, DC 20591, (202) 267-8361.

SUPPLEMENTARY INFORMATION:

Background

The proposed AC 20-65A provides information and guidance on the issuance of airworthiness certificates for U.S.-registered aircraft, and the issuance of special flight authorization for operation in the United States of foreign aircraft not having standard airworthiness certificated issued by the country of registry. You will find that the FAA office's website is still under development, but will be in the final AC.

Interested persons are invited to comment on the proposed AC 20-65A listed in this notice by submitting such written data, views, or arguments as they desire to the aforementioned specified address. All comments received on or before the closing date for comments specified above will be considered by the Director, Aircraft Certification Service, before issuing the final AC.

Comments received on the proposed AC 20-65A may be examined before and after the comment closing date in Room 815, FAA headquarters building (FOB-10A), 800 Independence Avenue, SW., Washington, DC 20591, between 8:30 a.m. and 4:30 p.m.

Issued in Washington, DC on March 11, 2004.
Frank P. Paskiewicz,
Manager, Production and Airworthiness Division, AIR-200.

[FR Doc. 04-6155 Filed 3-18-04; 8:45 am]

BILLING CODE 4910-13-M